DEPARTMENT OF ENERGY

Federal Energy Regulatory Commission

[Docket No. EC00-100-000, et al.]

Entergy Nuclear Indian Point 3, LLC, et al.; Electric Rate and Corporate Regulation Filings

June 14, 2000.

Take notice that the following filings have been made with the Commission:

1. Entergy Nuclear Indian Point 3, LLC and Entergy Nuclear FitzPatrick, LLC

[Docket No. EC00-100-000]

Take notice that on June 7, 2000, Entergy Nuclear Indian Point 3, LLC and Entergy Nuclear Fitzpatrick, LLC tendered for filing an application requesting all necessary authorizations under Section 203 of the Federal Power Act to acquire certain transmission facilities associated with the sale by New York Power Authority of the James A. FitzPatrick Nuclear Power Station and Indian Point 3 Nuclear Power Station.

Copies of this filing have been served on the New York Public Service Commission, Arkansas Public Service Commission, Mississippi Public Service Commission, Louisiana Public Service Commission, Texas Public Utility Commission, Council of the City of New Orleans and on the New York Power Authority.

Comment date: July 7, 2000, in accordance with Standard Paragraph E at the end of this notice.

2. The FirstEnergy Operating Companies

[Docket No. ER99-2609-004]

Take notice that on June 9, 2000, The FirstEnergy Operating Companies tendered for filing a compliance refund report pursuant to the Commission's March 16, 2000 Letter Order in this proceeding.

The FirstEnergy Operating Companies state that a copy of the filing has been served on the customers receiving refunds and the public utilities commissions of Ohio and Pennsylvania.

Comment date: June 30, 2000, in accordance with Standard Paragraph E at the end of this notice.

3. North American Electric Reliability Council

[Docket No. ER00-2790-000]

Take notice that on June 6, 2000, Consumers Energy Company (CECo), tendered for filing a compliance filing in the above-referenced docket involving the North American Electric Reliability Council's transmission loading relief procedures.

Comment date: June 27, 2000, in accordance with Standard Paragraph E at the end of this notice.

4. Commonwealth Edison Company

[Docket No. ER00-2795-000]

Take notice that on June 9, 2000, Commonwealth Edison Company (ComEd), tendered for filing an amended service agreement to remove the market index rate cap for sales from ComEd to PECO.

ComEd requests waiver of the notice period to grant the amended service agreement an effective date of June 10, 2000 and expedited acceptance of the filing by the Commission.

Comment date: June 30, 2000, in accordance with Standard Paragraph E at the end of this notice.

5. Central Illinois Light Company

[Docket No. ER00-2781-000]

Take notice that on June 9, 2000 Central Illinois Light Company (CILCO), 300 Liberty Street, Peoria, Illinois 61202, tendered for filing with the Commission an amendment of its Open Access Transmission Tariff to explicitly incorporate the revised transmission loading relief (TLR) procedures developed by the North American Electric Reliability Council (NERC) and approved by the Commission in Docket No. ER00-1666-000.

CILCO requested the same effective date granted to NERC, March 1, 2000 and therefore respectfully requested waiver of the Commission's notice requirements.

Copies of the filing were served on the affected customers and the Illinois Commerce Commission.

Comment date: June 30, 2000, in accordance with Standard Paragraph E at the end of this notice.

6. Cleco Utility Group Inc.

[Docket No. ER00-2782-000]

Take notice that on June 9, 2000 Cleco Utility Group, Inc., tendered for filing Non-Firm and Short Term Firm Point-to-Point transmission service agreements under its Open Access Transmission Tariff with Western Resources, Inc.

Comment date: June 30, 2000, in accordance with Standard Paragraph E at the end of this notice.

7. Pacific Gas and Electric Company

[Docket No. ER00-2783-000]

Take notice that on June 9, 2000, Pacific Gas and Electric Company (the Company), tendered for filing a request for termination of the Interim Short Term Coordination Agreement, as amended, between Pacific Gas and Electric Company and Sacramento Municipal Utility District (SMUD), dated July 28, 1998, initially accepted by the Commission on August 28, 1998 and designated as Company Rate Schedule FERC No. 201.

Copies of this filing have been served upon SMUD and the California Public Utilities Commission.

Comment date: June 30, 2000, in accordance with Standard Paragraph E at the end of this notice.

8. Alliant Energy Corporate Services, Inc.

[Docket No. ER00-2784-000]

Take notice that on June 9, 2000, Alliant Energy Corporate Services, Inc., tendered for filing executed Network Service and Network Operating Agreements, establishing Missouri Basin Municipal Power Agency doing business as Missouri River Energy as a Network Transmission Customer under the terms of the Alliant Energy Corporate Services, Inc. transmission tariff.

Alliant Energy Corporate Services, Inc., requests an effective date of December 1, 2000 and accordingly, seeks waiver of the Commission's notice requirements. A copy of this filing has been served upon the Illinois Commerce Commission, the Minnesota Public Utilities Commission, the Iowa Department of Commerce, and the Public Service Commission of Wisconsin.

Comment date: June 30, 2000, in accordance with Standard Paragraph E at the end of this notice.

9. Lakefield Junction, L.P.

[Docket No. ER00-2785-000]

Take notice that on June 9, 2000, Lakefield Junction, L.P. (Seller), a limited partnership organized under the laws of the State of Delaware, petitioned the Commission for an order: (1) accepting Seller's proposed FERC Electric Tariff (Market-Based Rate Tariff); (2) granting waiver of certain requirements under Subparts B and C of Part 35 of the Regulations, and (3) granting the blanket approvals normally accorded sellers permitted to sell at market-based rates. Seller is developing a 550MW generating facility in Trimont, Minnesota.

Comment date: June 30, 2000, in accordance with Standard Paragraph E at the end of this notice.

10. Texas-New Mexico Power Company

[Docket No. ER00-2786-000]

Take notice that on June 9, 2000, Texas-New Mexico Power Company (TNMP) tendered for filing an executed Firm Point-to-Point Service Agreement entered into between TNMP and El Paso Electric Company (EPE).

TNMP and EPE have requested an effective date of May 1, 2000 for capacity and energy sales by TNMP to EPE under this Agreement. Service to be provided under this Agreement is for one month.

A copy of this filing was served upon EPE.

Comment date: June 30, 2000, in accordance with Standard Paragraph E at the end of this notice.

11. Mississippi Power Company

[Docket No. ER00-2787-000]

Take notice that on June 9, 2000, Mississippi Power Company (MPC), tendered for filing proposed changes to Rates Schedule MRA-18 of FERC Electric Tariff, First Revised Volume No. 1 (Tariff) of Mississippi Power Company. The proposed changes will provide a rate decrease to all customers under the Tariff. In addition, the filing provides for a moratorium on unilateral changes in rates under the Tariff until January 1, 2002.

MPC has requested an effective date of January 1, 2000. The filing also contains corresponding Settlement Agreement and Statement of Consents for each of the customers served under the Tariff.

The rate decrease is being filed as a result of agreements reached between each of the customers under the Tariff and MPC, which agreements are set forth in the separate Settlement Agreement and Statement of Consents between each customer and MPC.

Copies of the filing were provided to each of the customers under the Tariff, to the Mississippi Public Service Commission, and to the Mississippi Public Utilities Staff.

Comment date: June 30, 2000, in accordance with Standard Paragraph E at the end of this notice.

12. Central Illinois Light Company

[Docket No. ER00-2788-000]

Take notice that on June 9, 2000, Central Illinois Light Company (CILCO), 300 Liberty Street, Peoria, Illinois 61602, tendered for filing with the Commission an amendment to CILCO's Open Access Transmission Tariff to put into effect a procedure for establishing a new generation facility connection to CILCO's system.

CILCO requested an effective date of June 12, 2000, for these amendments.

Copies of the filing were served on all affected customers, the Illinois Commerce Commission, and the service list in this docket.

Comment date: June 30, 2000, in accordance with Standard Paragraph E at the end of this notice.

13. Allegheny Energy Service Corporation, on behalf of Allegheny Energy Supply Company, LLC

[Docket No. ER00-2801-000]

Take notice that on June 9,, 2000, Allegheny Energy Service Corporation on behalf of Allegheny Energy Supply Company, LLC (Allegheny Energy Supply), tendered for filing Amendment No. 2 to Supplement No. 12 to the Market Rate Tariff to incorporate a Netting Agreement with Merchant Energy Group of the Americas, Inc. into the tariff provisions.

Allegheny Energy Supply Company requests a waiver of notice requirements to make the Amendment effective as of May 31, 2000.

Copies of the filing have been provided to the Public Utilities Commission of Ohio, the Pennsylvania Public Utility Commission, the Maryland Public Service Commission, the Virginia State Corporation Commission, the West Virginia Public Service Commission, and all parties of record.

Comment date: June 30, 2000, in accordance with Standard Paragraph E at the end of this notice.

14. Avista Corporation

[Docket No. ER00-2802-000]

Take notice that on June 9, 2000, Avista Corporation (Avista), tendered for filing notice that Rate Schedule FERC No. 109, previously filed with the Federal Energy Regulatory Commission by Avista Corporation, formerly known as The Washington Water Power Company, under the Commission's Docket No. ER97-1483-000 and Rate Schedule FERC No. 92, previously filed with the Federal Energy Regulatory Commission by Avista Corporation, formerly known as The Washington Water Power Company, under the Commission's Docket No. ER97-1252-000 with Sonat Power Marketing (now known as El Paso Merchant Energy, L.P.) is to be terminated, effective June 15, 2000 by the request of El Paso Merchant Energy, L.P. per its letter dated June 7, 2000. FERC Rate Schedule No. 109 replaced an unsigned tariff previously filed with the FERC in Docket No. ER97-1252-000.

Comment date: June 30, 2000, in accordance with Standard Paragraph E at the end of this notice.

15. Deepwater Power LLC, B.L. England Power LLC, Indian River Power LLC, Vienna Power LLC, Keystone Power LLC, and Conemaugh Power LLC

[Docket Nos. ER00-2805-000, ER00-2806-000 ER00-2807-000, ER00-2808-000, ER00-2809-000, and ER00-2810-000]

Take notice that on June 9, 2000, Deepwater Power LLC, B.L. England Power LLC, Indian River Power LLC, Vienna Power LLC, Keystone Power LLC, and Conemaugh Power LLC (Sellers), limited liability companies organized under the laws of the State of Delaware, petitions the Commission for an order: (1) Accepting Sellers' proposed FERC Electric Tariffs (Market-Based Rate Tariffs); (2) granting waiver of certain requirements under Subparts B and C of Part 35 of the regulations, and (3) granting the blanket approvals normally accorded sellers permitted to sell at market-based rates. Sellers are indirect subsidiaries of Northern States Power Company.

Comment date: June 30, 2000, in accordance with Standard Paragraph E at the end of this notice.

16. The United Illuminating Company

[Docket No. ER00-2804-000]

Take notice that on June 9, 2000, The United Illuminating Company (UI), tendered for filing for informational purposes its report regarding all individual Purchase Agreements, Supplements to Purchase Agreements and related agreements executed under UI's Wholesale Electric Sales Tariff, FERC Electric Tariff, Original Volume No. 2, as amended, during the six-month period November 1, 1999 through April 30, 2000. UI reports that it entered into the following agreements during this period: PPA Entitlements Transfer Agreement between UI and Enron Power Marketing, Inc. (EPMI), dated as of December 28, 1999; Letter Agreement amending Section 5.1 of the foregoing PPA Entitlements Transfer Agreement, dated December 28, 1999; Letter Agreement between UI and EPMI regarding the sale by UI and the purchase by EPMI of Installed Capability, Operable Capability and other ancillary products and services associated with Millstone Station Unit No. 3 and Seabrook Station, dated as of December 28, 1999; Wholesale Power Supply Agreement between UI and EPMI, dated as of December 28, 1999 (the WPSA); and a Letter Agreement between UI and EPMI relating to a contract for differences based upon the output of UI's nuclear plant interests, dated as of December 28, 1999 (the Nuclear Output Agreement). Public and confidential versions of the WPSA and Nuclear Output Agreement have been submitted for filing, as EPMI has requested confidential treatment of certain information in these agreements.

Comment date: June 30, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-15731 Filed 6-21-00; 8:45 am]

BILLING CODE 6717-01-P